DEPARTMENT OF TRANSPORTATION

Federal Railroad Administration

[Docket Number FRA-2004-17989]

Petition for Waiver of Compliance

In accordance with part 211 of Title 49 Code of Federal Regulations (CFR), this document provides the public notice that by a document dated January 29, 2014, Canadian Pacific Railway (CP) has petitioned the Federal Railroad Administration (FRA) for a renewal of its waiver of compliance from certain provisions of the Federal railroad safety regulations contained in 49 CFR part 218, Subpart B, Blue Signal Protection of Workers. FRA assigned the petition Docket Number FRA-2004-17989.

CP seeks renewal of its relief from 49 CFR Section 218.22(c)(5), Utility employee. This section lists the functions allowed to be performed by a utility employee without establishing blue signal protection. Although the employee under this section is allowed to remove or replace an end-of-train (EOT) telemetry device, FRA has maintained that removing or replacing a battery in an EOT, while the device is in place on the rear of the train, requires Blue Signal Protection because this task is a service and repair to the device. The present relief allows operating craft utility employees to change out EOT batteries as long as the changeout does not require the use of a tool. CP states that in the 8 years since the original waiver was granted, it has not recorded any accidents or incidents related to this waiver and hereby submits its petition for continued relief.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 23, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-07786 Filed 4-7-14; 8:45 am]

BILLING CODE 4910-06-P